CIVIL RIGHTS COMMISSION

Agenda and Notice of Public Meeting of the North Dakota Advisory Committee

Date and Time: Wednesday, February 12, 2014, 12:00 p.m. [CST].

Place: Via Teleconference. Public Dial-in 1-877-446-3914; Listen Line Code: 6974885.

TDD: Dial Federal Relay Service 1-800-977-8339 give operator the following number: 303-866-1040—or by email at ebohor@usccr.gov.

Notice is hereby given, pursuant to the provisions of the rules and regulations of the U.S. Commission on Civil Rights (Commission), and the Federal Advisory Committee Act (FACA), that a planning meeting of the North Dakota Advisory Committee to the Commission will convene via conference call. The purpose of the meeting is for orientation and ethics training. The committee will also discuss various civil rights issues in the state and decide a project to move forward on.

Members of the public are entitled to submit written comments. The comments must be received in the regional office by Wednesday, March 12, 2014. Comments may be mailed to the Rocky Mountain Regional Office, U.S. Commission on Civil Rights, 999 18th Street, Suite 1380 South, Denver, CO 80202, faxed to (303) 866-1050, or emailed to Evelyn Bohor at ebohor@usccr.gov. Persons who desire additional information may contact the Rocky Mountain Regional Office at 303-866-1040.

Records generated from this meeting may be inspected and reproduced at the Rocky Mountain Regional Office, as they become available, both before and after the meeting. Persons interested in the work of this advisory committee are advised to go to the Commission's Web site, www.usccr.gov, or to contact the Rocky Mountain Regional Office at the above phone number, email or street address.

The meetings will be conducted pursuant to the provisions of the rules and regulations of the Commission and FACA.

Dated: January 21, 2014.
David Mussatt,
Acting Chief, Regional Programs Coordination Unit.

[FR Doc. 2014-01428 Filed 1-24-14; 8:45 am]

BILLING CODE 6335-01-P